DEPARTMENT OF TRANSPORTATION

Federal Motor Carrier Safety Administration

49 CFR Parts 392 and 393

[Docket No. FMCSA-2025-0110]

RIN 2126-AC84

Parts and Accessories Necessary for Safe Operation; Liquid-Burning Flares; Correction

AGENCY: Federal Motor Carrier Safety Administration (FMCSA), Department of Transportation (DOT).

ACTION: Notice of proposed rulemaking (NPRM); correction.

SUMMARY: In an NPRM published in the Federal Register on May 30, 2025, FMCSA proposed to remove references to liquid-burning flares from the warning device requirements in the Federal Motor Carrier Safety Regulations. This proposed revision would remove outdated language referring to warning devices that FMCSA believes are no longer used. On June 5, 2025, FMCSA published a correction to address an error in the docket number, errors in the ADDRESSES section, and errors in the SUPPLEMENTARY INFORMATION section of the NPRM. Both the NPRM and subsequent correction contained an error in the regulation identification number (RIN).

DATES: This correction is effective July 9, 2025. Comments on the NPRM must still be received on or before July 29, 2025.

FOR FURTHER INFORMATION CONTACT: Mr. David Sutula, Chief, Vehicle and Roadside Operations Division, FMCSA, 1200 New Jersey Avenue SE, Washington, DC 20590-0001; (202) 366-9209; David.Sutula@dot.gov. If you have questions on viewing or submitting material to the docket, call Dockets Operations at (202) 366-9826.

SUPPLEMENTARY INFORMATION: In FR Doc. 2025-09710 appearing on page 22919 in the Federal Register of May 30, 2025, the following correction is made:

1. On page 22919, in the second column, remove the RIN which reads “2126-AC85” and add in its place “2126-AC84”.

In FR Doc. 2025-10244 appearing on page 23868 in the Federal Register of June 5, 2025, the following correction is made:

1. On page 23868, in the third column, remove the RIN which reads “2126-AC85” and add in its place “2126-AC84”.

Issued under authority delegated in 49 CFR 1.87.
Larry W. Minor,
Associate Administrator for Policy.

[FR Doc. 2025-12721 Filed 7-8-25; 8:45 am]

BILLING CODE 4910-EX-P